DEPARTMENT OF TRANSPORTATION

National Highway Traffic Safety Administration

[U.S. DOT Docket No. NHTSA-2014-0127]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before March 23, 2015.

ADDRESSES: You may submit comments identified by DOT Docket ID Number NHTSA-2014-0127 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-(202) 493-2251.

Instructions: Each submission must include the Agency name and the Docket number for this Notice. Note that all comments received will be posted without change to http://www.regulations.gov including any personal information provided.

FOR FURTHER INFORMATION CONTACT: Dr. J. Stephen Higgins, Contracting Officer's Technical Representative, Office of Behavioral Safety Research (NTI-132), National Highway Traffic Safety Administration, 1200 New Jersey Avenue SE., W46-474, Washington, DC 20590. Dr. Higgins' phone number is (202) 366-3976 and his email address is james.higgins@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) The accuracy of the agency's estimate of the burden of the proposed collection of information, including the validity of the methodology and assumptions used; (iii) How to enhance the quality, utility, and clarity of the information to be collected; and (iv) How to minimize the burden of the collection of information on those who are to respond, including the use of appropriate automated, electronic, mechanical, or other technological collection techniques or other forms of information technology, e.g., permitting electronic submission of responses. In compliance with these requirements, NHTSA asks public comment on the following proposed collection of information:

Characterizing Ambulance Driver Training in EMS Systems

Type of Request—New information collection requirement.

OMB Clearance Number—None.

Form Number—NHTSA 1186.

Requested Expiration Date of Approval—3 years from date of approval.

Summary of the Collection of Information—In order to characterize ambulance driver training across the United States, the National Highway Traffic Safety Administration (NHTSA) proposes to collect information from EMS agencies providing ambulance services and State offices responsible for overseeing training, licensing, and regulation of EMS agencies and their drivers. NHTSA is interested in learning about what types of driver training are required, when the training is required (new drivers, continuing education, etc.), how driving incidents (crashes, moving violations, etc.) impact driving privileges, initial qualification standards (age, number of years with license, driving record, etc.), and other related topics. Participation in the study will be voluntary and will only include State level agency representatives and representatives from EMS agencies that offer ambulance services. Data collection will be in the form of semi-structured interviews in-person or over the phone of contacts at State offices and an Internet-based survey of EMS agencies providing ambulance services. EMS agencies will be contacted via email, mail, or phone with a link to the Internet survey. State offices will be contacted via email or phone to participate in the semi-structured interviews.

Description of the Need for the Information and Proposed Use of the Information— NHTSA has the responsibility for making driving safer by ensuring that drivers commit the fewest errors possible and by attempting to render the residual errors that are committed benign. Not all drivers, however, face the same level of risk on the road or the same task demands. Emergency vehicle operators must deal with critical time demands, large vehicles, and numerous potential and unavoidable distractions inherent in the response to emergencies.

Operator training is one method that human factors professionals have used in virtually all domains to reduce human error and thereby increase the safety of operations. Although emergency vehicle training for ambulance drivers has been repeatedly identified as an important step in the safety system, the current situation with respect to ambulance driver training in the United States is not well characterized. This project will document the types of driver training offered, when this training is required, how driving incidents impact driving privileges, initial qualification standards, and other related topics discovered throughout the course of the study. The results of this project will assist NHTSA in determining the current state of ambulance driver training which will help the Agency determine if additional research and development on the topic are warranted.

Description of the Likely Respondents (Including Estimated Number, and Proposed Frequency of Response to the Collection of Information)—The participant groups being sought include representatives from up to 21,283 EMS agencies across the United States and representatives from State offices for the 50 States and Washington DC Participants from EMS agencies will be recruited via email to respond to an Internet-based survey. The survey will be completed a single time by one representative from the solicited agencies. Approximately 153 semi-structured interviews (up to 3 per State and Washington DC since multiple offices may be responsible for various aspects of ambulance driver training and regulation) will be conducted via telephone with personnel from State offices. The total sample size has the potential to be 21,436 participants.

Estimate of the Total Annual Reporting and Record Keeping Burden Resulting from the Collection of Information—The 153 conversations with State personnel will average approximately 60 minutes in length including introduction, demographics, ambulance driver training/licensing requirements, training course description and content review, and conclusion. The estimated completion time for the Internet-based survey of EMS agency representatives is 30 minutes per agency. The total estimated annual burden if all solicited participants respond is 10,794.50 hours. Participants will incur no costs and no record keeping burden from the information collection.

Authority: 44 U.S.C. Section 3506(c)(2)(A).

Dated: January 14, 2015.
Jeff Michael,
Associate Administrator, Research and Program Development.

[FR Doc. 2015-00807 Filed 1-20-15; 8:45 am]

BILLING CODE 4910-59-P